DEPARTMENT OF HEALTH AND HUMAN SERVICES

Centers for Disease Control and Prevention

[30Day-05-0214]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

2005 National Health Interview Survey, OMB No. 0920-0214—Revision—National Center for Health Statistics (NCHS), Centers for Disease Control and Prevention (CDC).

The annual National Health Interview Survey (NHIS) is a basic source of general statistics on the health of the U.S. population. Respondents to the NHIS also serve as the sampling frame for the Medical Expenditure Panel Survey which is conducted by the Agency for Healthcare Research and Quality. The NHIS has long been used by government, university, and private researchers to evaluate both general health and specific issues, such as cancer, AIDS, and access to health care. Journalists use its data to inform the general public. It will continue to be a leading source of data for the Congressional-mandated “Health US” and related publications. NHIS is the single most important source of statistics to track progress toward the National Health Promotion and Disease Prevention Objectives, “Healthy People 2010.”

The NHIS has been in the field continuously since 1957. Due to survey integration and changes in the health and health care of the U.S. population, demands on the NHIS have changed and increased, leading to a major redesign of the annual core questionnaire or Basic Module, and a shift from paper questionnaires to computer assisted personal interviews (CAPI). These redesigned elements were fully implemented in 1997. This clearance is for the ninth full year of data collection using the core questionnaire on CAPI, and for the implementation of a supplement sponsored by the National Cancer Institute. There is no cost to the respondents other than their time. The estimated annualized burden is 39,837 hours.

Annualized Burden Table
Respondents | Number of respondents | Number of responses/respondent | Average burden/ response (in hrs)
Family Core (adult family member) | 39,000 | 1 | 24/60
Adult Core (sample adult) | 32,000 | 1 | 18/60
Adult Topical Module (sample adult) | 32,000 | 1 | 18/60
Child Core (adult family member) | 13,000 | 1 | 16/60
Child Topical Module (adult family member) | 13,000 | 1 | 6/60
Re-interview Survey | 3,250 | 1 | 5/60

Dated: October 25, 2004.
B. Kathy Skipper,
Acting Director, Management Analysis and Services Office, Centers for Disease Control and Prevention.

[FR Doc. 04-24321 Filed 10-29-04; 8:45 am]

BILLING CODE 4163-18-P